DEPARTMENT OF ENERGY

Federal Energy Regulatory Commission

[Docket No. RP01-451-000]

Panhandle Eastern Pipe Line Company; Notice of Proposed Changes in FERC Gas Tariff

June 14, 2001.

Take notice that on June 8, 2001, Panhandle Eastern Pipe Line Company (Panhandle) tendered for filing as part of its FERC Gas Tariff, First Revised Volume No. 1, Eighth Revised No. 339, to be effective July 8, 2001.

Panhandle states that the purpose of this filing is to add a general statement in Section 27.7 of the General Terms and Conditions to address the “shipper must have title” rule and state that Panhandle will only provide service for others utilizing capacity acquired on another pipeline (off-system capacity) pursuant to its existing rates and tariff. Panhandle requests that the Commission grant a generic waiver of the “shipper must hold title” policy for any future service that Panhandle may provide utilizing off-system capacity.

Panhandle states that copies of this filing are being served on all affected customers and interested state regulatory agencies.

Any person desiring to be heard or to protest said filing should file a motion to intervene or a protest with the Federal Energy Regulatory Commission, 888 First Street, NE., Washington, DC 20426, in accordance with sections 385.214 or 385.211 of the Commission's Rules and Regulations. All such motions or protests must be filed in accordance with section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 185.2001(a)(1)(iii) and the instructions on the Commission's web site at http://www.ferc.fed.us/efi/doorbell.htm.

Linwood A. Watson, Jr.,
Acting Secretary.

[FR Doc. 01-15509 Filed 6-19-01; 8:45 am]

BILLING CODE 6717-01-M